DEPARTMENT OF LABOR

Bureau of Labor Statistics

Bureau of Labor Statistics Technical Advisory Committee; Notice of Meeting and Agenda

The Bureau of Labor Statistics Technical Advisory Committee will meet on Friday, November 8, 2013. The meeting will be held in the Postal Square Building, 2 Massachusetts Avenue NE., Washington, DC.

The Committee provides advice and makes recommendations to the Bureau of Labor Statistics (BLS) on technical aspects of the collection and formulation of economic measures. The BLS presents issues and then draws on the expertise of Committee members representing specialized fields within the academic disciplines of economics, statistics, and survey design.

The meeting will be held in rooms 1 and 2 of the Postal Square Building Conference Center. The schedule and agenda for the meeting are as follows:

8:30 a.m. Commissioner's welcome and review of agency developments

9:00 a.m. Producer Price Index New Aggregation

10:45 a.m. Preparing BLS measures of employment-based health care benefits for changes due to implementation of the Affordable Care Act

1:45 p.m. Discussion of future priorities

2:15 p.m. Employment Projections Methods for Estimation of Projected Job Openings

4:00 p.m. Approximate conclusion

The meeting is open to the public. Any questions concerning the meeting should be directed to Lisa Fieldhouse, Bureau of Labor Statistics Technical Advisory Committee, on 202-691-5025. Individuals who require special accommodations should contact Ms. Fieldhouse at least two days prior to the meeting date.

Signed at Washington, DC, this 18th day of October, 2013.
Kimberley D. Hill,
Chief, Division of Management Systems, Bureau of Labor Statistics.

[FR Doc. 2013-24970 Filed 10-23-13; 8:45 am]

BILLING CODE 4510-24-P